DEPARTMENT OF COMMERCE

National Institute of Standards and Technology

Agency Information Collection Activities; Submission to the Office of Management and Budget (OMB) for Review and Approval; Comment Request; NIST Associates Information System; Correction

AGENCY: National Institute of Standards and Technology (NIST), Commerce.

ACTION: Notice; correction.

SUMMARY: On March 15, 2021, the Department of Commerce, published a 30-day public comment period notice in the Federal Register with FR Document Number 2021-05296 (Pages 14313-14314), and on January 7, 2021, published a 60-day public comment period notice with FR Document Number 2021-00056 (Page 1089) seeking public comments for an information collection entitled, “NIST Associates Information System.” This document referenced incorrect information in the DATA section, and Commerce hereby issues a correction notice as required by the Paperwork Reduction Act of 1995.

FOR FURTHER INFORMATION CONTACT: For additional information concerning this correction, contact Maureen O'Reilly, NIST, Management Analyst, at PRAcomments@doc.gov.

SUPPLEMENTARY INFORMATION:

Correction

Data

Estimated Number of Respondents: 4,000.

Estimated Total Annual Burden Hours: 2,083.

This information collection request may be viewed at www.reginfo.gov. Follow the instructions to view the Department of Commerce collections currently under review by OMB.

Written comments and recommendations for the proposed information collection should be submitted within 30 days of the initial publication notice date of March 15, 2021 on the following website www.reginfo.gov/public/do/PRAMain. Find this particular information collection by selecting “Currently under 30-day Review—Open for Public Comments” or by using the search function and entering either the title of the collection or the OMB Control Number 0693-0067.

Sheleen Dumas,
Department PRA Clearance Officer, Office of the Chief Information Officer, Commerce Department.

[FR Doc. 2021-05633 Filed 3-17-21; 8:45 am]

BILLING CODE 3510-13-P